DEPARTMENT OF ENERGY

Federal Energy Regulatory Commission

[Project No. 12614-001]

Alaska Power & Telephone Company; Notice of Surrender of Preliminary Permit

October 24, 2007.

Take notice that Alaska Power & Telephone Company, permittee for the proposed Ninemile Hydroelectric Project, has requested that its preliminary permit be terminated. The permit was issued on October 11, 2006, and would have expired on September 30, 2009.¹ The project would have been located on the Salmon River, in the Prince of Wales-Outer Ketchikan Census Area in Ketchikan, Alaska.

¹ Alaska Power & Telephone Company, 117 FERC ¶ 62,024.

The permittee filed the request on September 27, 2007, and the preliminary permit for Project No. 12614 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Kimberly D. Bose,
Secretary.

[FR Doc. E7-21389 Filed 10-30-07; 8:45 am]

BILLING CODE 6717-01-P